DEPARTMENT OF DEFENSE

Office of the Secretary

Defense Science Board

AGENCY: Department of Defense.

ACTION: Notice of Advisory Committee Meeting.

SUMMARY: The Defense Science Board Task Force on 2005 Summer Study on Reducing Vulnerabilities to Weapons of Mass Destruction will meet in closed session on January 31-February 1, 2005; March 8-9, 2005; April 4-5, 2005; May 3-4, 2005; June 1-2, 2005; and June 28-29, 2005, at Strategic Analysis Inc., 3601 Wilson Boulevard, Arlington, VA. This Task Force will review a State's clanedestine employment of weapons of massed destruction (WMD) or the use of such capability by a terrorist.

The mission of the Defense Science Board is to advise the Secretary of Defense and the Under Secretary of Defense for Acquisition, Technology & Logistics on scientific and technical matters as they affect the perceived needs of the Department of Defense. At these meetings, the Defense Science Board Task Force should develop national enterprise architecture to reduce vulnerabilities to WMD. The architecture should identify those areas where integration across modalities would pay off, as well as the issues that are uniquely tied to a single defense which may arise from new intelligence or other sources and adapt to different generations of WMD defense systems which will probably be procured under a spiral development model. An integrated WMD system would be able to assess from end-to-end the state of affairs in WMD.

In accordance with Section 10(d) of the Federal Advisory Committee Act, Public Law 92-463, as amended (5 U.S.C. app. 2), it has been determined that these Defense Science Board Task Force meetings concern matters listed in 5 U.S.C. 552b(c)(1) and that, accordingly, these meetings will be closed to the public.

Dated: January 18, 2005.
Jeannette Owings-Ballard,
OSD Federal Register Liaison Officer, Department of Defense.

[FR Doc. 05-1478 Filed 1-26-05; 8:45 am]

BILLING CODE 5001-06-M